DEPARTMENT OF ENERGY

Federal Energy Regulatory Commission

[Project No. 2552-058]

FPL Energy Maine Hydro, LLC; Notice of Availability of Final Environmental Assessment

May 8, 2003.

In accordance with the National Environmental Policy Act of 1969 and the Federal Energy Regulatory Commission's (Commission) regulations, 18 CFR part 380 (Order No. 486, 52 FR 47897), Office of Energy Projects staff reviewed the application for surrender of project license for the Fort Halifax Project, located on the Sebasticook River, Kennebec County, Maine, and prepared a final environmental assessment (EA) for the project. In the final EA, staff analyze the potential environmental effects of the surrender of license and conclude that the surrender, or any other alternative considered, would not constitute a major federal action significantly affecting the quality of the human environment.

Copies of the final EA can be viewed at the Commission in the Public Reference Room or may be viewed on the Commission's Web site at http://www.ferc.gov using the “FERRIS” link. Enter the docket number excluding the last three digits in the docket number field to access the document. To be notified via email of new filings and issuances related to this or other pending projects, register online at http://www.ferc.gov/esubscribenow.htm. For assistance, contact FERC Online Support at FERCOnlineSupport@ferc.gov or toll-free at 1-866-208-3676, or for TTY, (202) 502-8659.

Magalie R. Salas,
Secretary.

[FR Doc. 03-12016 Filed 5-13-03; 8:45 am]

BILLING CODE 6717-01-P